FEDERAL ELECTION COMMISSION

[Notice 2006-9]

Filing Dates for the New Jersey Special Election in the 13th Congressional District

AGENCY: Federal Election Commission.

ACTION: Notice of filing dates for special election.

SUMMARY: New Jersey has scheduled special elections to fill the U.S. House of Representatives seat in the Thirteenth Congressional District vacated by Senator Robert Menendez.

Committees required to file reports in connection with the Special Primary Election on June 6, 2006, shall file a 12-day Pre-Primary Report. Committees required to file reports in connection with both the Special Primary and Special General Election on November 7, 2006, shall file a 12-day Pre-Primary Report, a 12-day Pre-General Report, and a 30-day Post-General Report.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the New Jersey Special Primary and Special General Elections shall file a 12-day Pre-Primary Report on May 25, 2006; a 12-day Pre-General Report on October 26, 2006; and a 30-day Post-General Report on December 7, 2006. (See chart below for the closing date for each report.)

All principal campaign committees of candidates only participating in the Special Primary Election shall file a 12-day Pre-Primary Report on May 25, 2006. (See chart below for the closing date for each report.)

Unauthorized Committees (PACs and Party Committees)

Political committees filing on a quarterly basis in 2006 are subject to special election reporting if they make previously undisclosed contributions or expenditures in connection with the New Jersey Special Primary or Special General Elections by the close of books for the applicable report(s). (See chart below for the closing date for each report).

Committees filing monthly that support candidates in the New Jersey Special Primary or Special General Election should continue to file according to the monthly reporting schedule.

Disclosure of Electioneering Communications (Individuals and Other Unregistered Organizations)

As required by the Bipartisan Campaign Reform Act of 2002, the Federal Election Commission promulgated new electioneering communications rules governing television and radio communications that refer to a clearly identified federal candidate and are distributed within 30 days prior to a special primary election or 60 days prior to a special general election. 11 CFR 100.29. The statute and regulations require, among other things, that individuals and other groups not registered with the FEC who make electioneering communications costing more than $10,000 in the aggregate in a calendar year disclose that activity to the Commission within 24 hours of the distribution of the communication. See 11 CFR 104.20.

The 30-day electioneering communications period in connection with the New Jersey Special Primary runs from May 7, 2006 through June 6, 2006. The 60-day electioneering communications period in connection with the New Jersey Special General runs from September 8, 2006 through November 7, 2006.

Calendar of Reporting Dates for New Jersey Special Elections
Report | Close of books ¹ | Reg./Cert. & overnight mailing date | Filing date
For Committees Involved in the Special Primary (06/06/06)
Pre-Primary | 05/17/06 | 05/22/06 | 05/25/06
July Quarterly | 06/30/06 | 07/15/06 | ² 07/15/06

Report | Repoting period ¹ | Reg./Cert. & overnight mailing date | Filing date
For Committees Involved in the Special Primary (06/06/06) and Special General (11/07/06)
Pre-Primary | 05/17/06 | 05/22/06 | 05/25/06
July Quarterly | 06/30/06 | 07/15/06 | ² 07/15/06
October Quarterly | 09/30/06 | 10/15/06 | ² 10/15/06
Pre-General | 10/18/06 | 10/23/06 | 10/26/06
Post-General | 11/27/06 | 12/07/06 | 12/07/06
Year-End | 12/31/06 | 01/31/07 | 01/31/07
¹ The period begins with the close of books of the last report filed by the committee. If the committee has filed no previous reports, the period begins with the date of the committee's first activity.
² Notice that this deadline falls on a holiday or a weekend. Filing dates are not extended when they fall on nonworking days.

Dated: April 6, 2006.
Michael E. Toner,
Chairman, Federal Election Commission.

[FR Doc. E6-5547 Filed 4-13-06; 8:45 am]

BILLING CODE 6715-01-P